DEPARTMENT OF TRANSPORTATION

Federal Aviation Administration

14 CFR Part 39

[Docket No. FAA-2012-0804; Directorate Identifier 2012-NM-094-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 747-100, 747-100B, 747-100B SUD, 747-200B, 747-200C, 747-200F, 747-300, 747-400, 747-400D, 747-400F, 747SR, and 747SP series airplanes; and certain Model 757-200, -200PF, and -300 series airplanes. The existing AD currently requires replacing the control switches of the forward, aft, and nose cargo doors for certain airplanes, and replacing the control switches of cargo doors 1 and 2 for certain airplanes. Since we issued that AD, we have determined that additional airplanes are affected by the identified unsafe condition. This proposed AD would continue to require replacing the control switches of the forward, aft, and nose cargo doors of Model 747 airplanes; and the control switches of cargo doors 1 and 2 of Model 757 airplanes; this proposed AD also adds airplanes to the applicability and revises the initial compliance times. We are proposing this AD to prevent injuries to persons and damage to the airplane and equipment.

DATES: We must receive comments on this proposed AD by September 17, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington 98057-3356. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Francis Smith, Aerospace Engineer, Cabin Safety & Environmental Systems Branch, ANM-150S, FAA, Seattle Aircraft Certification Office, 1601 Lind Avenue SW., Renton, Washington 98057-3356; phone: 425-917-6457; fax: 425-917-6590; email: francis.smith@faa.gov.

SUPPLEMENTARY INFORMATION:

Comments Invited

We invite you to send any written relevant data, views, or arguments about this proposed AD. Send your comments to an address listed under the ADDRESSES section. Include “Docket No. FAA-2012-0804; Directorate Identifier 2012-NM-094-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 19, 2009, we issued AD 2009-22-08, Amendment 39-16059 (74 FR 55763, October 29, 2009), for certain The Boeing Company Model 747-100, 747-100B, 747-100B SUD, 747-200B, 747-200C, 747-200F, 747-300, 747-400, 747-400D, 747-400F, 747SR, and 747SP series airplanes; and certain Model 757-200, -200PF, and -300 series airplanes. That AD requires replacing the control switches of the forward, aft, and nose cargo doors for certain airplanes, and replacing the control switches of cargo doors 1 and 2 for certain airplanes. That AD resulted from reports of problems associated with the uncommanded operation of cargo doors. We issued that AD to prevent injuries to persons and damage to the airplane and equipment.

Actions Since Existing AD Was Issued

Since we issued AD 2009-22-08, Amendment 39-16059 (74 FR 55763, October 29, 2009), we have determined that additional airplanes are affected by the identified unsafe condition.

Relevant Service Information

We reviewed Boeing Special Attention Service Bulletin 747-52-2286, Revision 1, dated October 28, 2010. This service bulletin describes procedures for replacing the control switches of the forward, aft, and nose cargo doors with new switches. This service bulletin also adds Group 3 airplanes, and also changes the compliance time for Groups 1 and 2 airplanes.

FAA's Determination

We are proposing this AD because we evaluated all the relevant information and determined the unsafe condition described previously is likely to exist or develop in other products of these same type designs.

Proposed AD Requirements

This proposed AD would retain all requirements of AD 2009-22-08, Amendment 39-16059 (74 FR 55763, October 29, 2009). This proposed AD would add Group 3 airplanes, as specified in Boeing Special Attention Service Bulletin 747-52-2286, Revision 1, dated October 28, 2010, and would change the compliance time for Groups 1 and 2 airplanes. This proposed AD would also require accomplishing the actions specified in the service information described previously.

Change to Existing AD

This proposed AD would retain all requirements of AD 2009-22-08, Amendment 39-16059 (74 FR 55763, October 29, 2009). Since AD 2009-22-08 was issued, the AD format has been revised, and certain paragraphs have been rearranged. As a result, the corresponding paragraph identifiers have changed in this proposed AD, as listed in the following table:

Revised Paragraph Identifiers
Requirement in AD 2009-22-08, Amendment 39-16059 (74 FR 55763, October 29, 2009) | Corresponding requirement in this proposed AD
paragraph (f) | paragraph (g)

Costs of Compliance

We estimate that this proposed AD affects 225 airplanes of U.S. registry.

We estimate the following costs to comply with this proposed AD:

Estimated Costs
Action | Labor cost | Parts cost | Cost per product | Number of airplanes | Cost on U.S. operators
Replacement [retained from existing AD 2009-22-08, Amendment 39 16059 (74 FR 55763, October 29, 2009)] | Up to 5 work-hours × $85 per hour = $425 | $195 | $620 | 221 | $137,020
Replacement [new proposed action for added airplanes] | 5 work-hours × $85 per hour = $425 | 195 | 620 | 4 | 2,480

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-22-08, Amendment 39-16059 (74 FR 55763, October 29, 2009), and adding the following new AD:

The Boeing Company: Docket No. FAA-2012-0804; Directorate Identifier 2012-NM-094-AD.

(a) Comments Due Date

The FAA must receive comments on this AD action by September 17, 2012.

(b) Affected ADs

This AD supersedes AD 2009-22-08, Amendment 39-16059 (74 FR 55763, October 29, 2009).

(c) Applicability

This AD applies to The Boeing Company Model 747-100, 747-100B, 747-100B SUD, 747-200B, 747-200C, 747-200F, 747-300, 747-400, 747-400D, 747-400F, 747SR, and 747SP series airplanes, certificated in any category, as identified in Boeing Special Attention Service Bulletin 747-52-2286, Revision 1, dated October 28, 2010; and Model 757-200, -200PF, and -300 series airplanes, certificated in any category, as indentified in Boeing Special Attention Service Bulletin 757-52-0090, dated September 21, 2007.

(d) Subject

Joint Aircraft System Component (JASC)/Air Transport Association (ATA) of America Code 52, Doors.

(e) Unsafe Condition

This AD was prompted by reports of problems associated with the uncommanded operation of cargo doors. We are issuing this AD to prevent injuries to persons and damage to the airplane and equipment.

(f) Compliance

Comply with this AD within the compliance times specified, unless already done.

(g) Retained Replacement

This paragraph restates the requirements of paragraph (f) of AD 2009-22-08, Amendment 39-16059 (74 FR 55763, October 29, 2009), with revised compliance times and service information. Replace the control switches, as specified in paragraph (g)(1) or (g)(2) of this AD, as applicable. Repeat the replacements thereafter at intervals not to exceed 72 months.

(1) For Groups 1 and 2 Model 747 airplanes as identified in Boeing Special Attention Service Bulletin 747-52-2286, Revision 1, dated October 28, 2010: Within 24 months after December 3, 2009 (the effective date of AD 2009-22-08, Amendment 39-16059 (74 FR 55763, October 29, 2009)), or within 72 months from the date of issuance of the original certificate of airworthiness or the original export certificate of airworthiness, whichever occurs later, replace the control switches of the forward, aft, and nose cargo doors, in accordance with the Accomplishment Instructions of Boeing Special Attention Service Bulletin 747-52-2286, dated September 28, 2007; or Boeing Special Attention Service Bulletin 747-52-2286, Revision 1, dated October 28, 2010. As of the effective date of this AD, use only Boeing Special Attention Service Bulletin 747-52-2286, Revision 1, dated October 28, 2010, to do the actions specified in this paragraph.

(2) For Model 757 series airplanes: Within 24 months after December 3, 2009 (the effective date of AD 2009-22-08, Amendment 39-16059 (74 FR 55763, October 29, 2009)), replace the control switches of cargo doors 1 and 2, in accordance with the Accomplishment Instructions of Boeing Special Attention Service Bulletin 757-52-0090, dated September 21, 2007.

(h) New Replacement

For Group 3 airplanes, as identified in Boeing Special Attention Service Bulletin 747-52-2286, Revision 1, dated October 28, 2010: Within 72 months from the date of issuance of the original certificate of airworthiness or the original export certificate of airworthiness, or within 12 months after the effective date of this AD, whichever occurs later, replace the control switches of the forward, aft, and nose cargo doors, as applicable, in accordance with the Accomplishment Instructions of Boeing Special Attention Service Bulletin 747-52-2286, Revision 1, dated October 28, 2010. Repeat the replacements thereafter at intervals not to exceed 72 months.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2009-22-08, Amendment 39-16059 (74 FR 55763, October 29, 2009), are approved as AMOCs for the corresponding provisions of this AD.

(j) Related Information

(1) For more information about this AD, contact Francis Smith, Aerospace Engineer, Cabin Safety & Environmental Systems Branch, ANM-150S, FAA, Seattle Aircraft Certification Office, 1601 Lind Avenue SW., Renton, Washington 98057-3356; phone: 425-917-6457; fax: 425-917-6590; email: francis.smith@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington 98057-3356. For information on the availability of this material at the FAA, call 425-227-1221.

Issued in Renton, Washington, on July 26, 2012.
Kalene C. Yanamura,
Acting Manager, Transport Airplane Directorate, Aircraft Certification Service.

[FR Doc. 2012-19018 Filed 8-2-12; 8:45 am]

BILLING CODE 4910-13-P